DEPARTMENT OF THE INTERIOR

Fish and Wildlife Service

[Docket No. FWS-HQ-MB-2021-0030; FF09M22000-212-FXMB1231099BPP0]

RIN 1018-BF07

Migratory Bird Hunting; Service Regulations Committee and Flyway Council Meetings

AGENCY: Fish and Wildlife Service, Interior.

ACTION: Notice; announcement of meetings.

SUMMARY: The U.S. Fish and Wildlife Service (Service or we) Migratory Bird Regulations Committee (SRC) will conduct an open meeting on April 6, 2021, to identify and discuss preliminary issues concerning the 2022-2023 migratory bird hunting regulations. We will conduct a second SRC meeting in September/October 2021 to review information on the status of migratory game birds and develop 2022-2023 migratory game bird regulation recommendations for these species. In accordance with departmental policy, these meetings are open to public observation.

DATES: SRC meeting: The Service Regulations Committee meeting will be held April 6, 2021. The meeting will commence at approximately 12:00 p.m. (Eastern Time) and is open for public observation. The Department of the Interior will post the September/October SRC meeting on the Service's Migratory Bird Program website as a method to notify the public of these meetings in the future (https://www.fws.gov/birds/). This posting will occur at least 2 weeks before the meeting or as soon as practicable after the Service can schedule.

Accommodation requests: Please submit all requests for meeting accommodations at least 7 days prior to the meeting date. See Meeting Accommodations, below, for more information.

ADDRESSES: The SRC meeting will be conducted by video and telephonically with or without the aid of video technology. Meeting details with web links and telephone numbers will be posted at https://www.fws.gov/birds/ when they become available.

FOR FURTHER INFORMATION CONTACT: Ken Richkus, U.S. Fish and Wildlife Service, Department of the Interior, MS: MB, 5275 Leesburg Pike, Falls Church, VA 22041-3803; (703) 358-1780.

SUPPLEMENTARY INFORMATION: Under the authority of the Migratory Bird Treaty Act (16 U.S.C. 703-712), the Service regulates the hunting of migratory game birds. We update the migratory game bird hunting regulations, located in title 50 of the Code of Federal Regulations in part 20 (50 CFR part 20), annually. Through these regulations, we establish the frameworks, or outside limits, for season lengths, bag limits, and areas for migratory game bird hunting. Acknowledging regional differences in hunting conditions, the Service has administratively divided the Nation into four Flyways for the primary purpose of managing migratory game birds. Each Flyway (Atlantic, Mississippi, Central, and Pacific) has a Flyway Council, a formal organization generally composed of one member from each State and Province in that Flyway. The Flyway Councils, established through the Association of Fish and Wildlife Agencies, assist in researching and providing migratory game bird management information for Federal, State, and Provincial governments, as well as private conservation entities and the public.

The process for adopting the migratory game bird hunting regulations in 50 CFR part 20 is constrained by three primary factors. Legal and administrative considerations dictate how long the rulemaking process will last. Most importantly, however, the biological cycle of migratory game birds controls the timing of data-gathering activities and thus the dates on which these results are available for consideration and deliberation.

For the regulatory cycle, Service biologists gather, analyze, and interpret biological survey data and provide this information to all those involved in the process through a series of published status reports and presentations to Flyway Councils and other interested parties. Because the Service is required to take abundance of migratory game birds and other factors into consideration, the Service undertakes a number of surveys throughout the year in conjunction with Service Regional Offices, the Canadian Wildlife Service, and State and Provincial wildlife-management agencies. To determine the appropriate frameworks for each species, we consider factors such as population size and trend, geographical distribution, annual breeding effort, condition of breeding and wintering habitat, number of hunters, and anticipated harvest. After frameworks are established for season lengths, bag limits, and areas for migratory game bird hunting, States may select season dates, bag limits, and other regulatory options for the hunting seasons. States may always be more conservative in their selections than the Federal frameworks, but never more liberal.

Upcoming Meetings

The SRC will conduct an open meeting on April 6, 2021, to identify and discuss preliminary issues concerning the 2022-2023 migratory bird hunting regulations. We will conduct a second SRC meeting in September/October 2021 to review information on the status of migratory game birds and develop 2022-2023 migratory game bird regulation recommendations for these species. In accordance with departmental policy, these meetings are open to public observation. In addition, Service representatives will be present at the individual meetings of the four Flyway Councils in February-March and again in August-October. We will provide the meeting dates, commencement times, and locations for the second SRC and Flyway Council meetings on our website at https://www.fws.gov/birds/management/flyways.php as this information becomes available.

Meeting Accommodations

The Service is committed to providing access to the April 6, 2021, SRC meeting for all participants. Please direct all requests for sign language interpreting services, closed captioning, or other accommodation needs to the person listed under FOR FURTHER INFORMATION CONTACT with your request by close of business on March 29, 2021. If you use a telecommunications device for the deaf (TDD), call the Federal Relay Service at 800-877-8339.

Martha Williams,
Principal Deputy Director, Exercising the Delegated Authority of the Director, U.S. Fish and Wildlife Service.

[FR Doc. 2021-06144 Filed 3-24-21; 8:45 am]

BILLING CODE 4333-15-P